FEDERAL COMMUNICATIONS COMMISSION

47 CFR Part 2

[WT Docket No. 19-348; DA 24-233; FRS 212104]

Facilitating Shared Use in the 3100-3550 MHz Band; Correction

AGENCY: Federal Communications Commission.

ACTION: Correcting amendment.

SUMMARY: The Federal Communications Commission published a document in the Federal Register of March 25, 2024, concerning a non-substantive, editorial revision made by the Wireless Telecommunication Bureau and the Office of Engineering and Technology (WTB/OET) to the Table of Frequency Allocations in the Commission's Rules (Table 22), which identifies coordinates for Department of Defense Cooperative Planning Areas (CPAs) and Periodic Use Areas (PUAs). The document contained an incorrect instruction regarding the revision to Table 22. This document sets out the correct instruction to amend Table 22.

DATES: Effective April 4, 2024.

FOR FURTHER INFORMATION CONTACT: Thomas Reed, Wireless Telecommunications Bureau, Mobility Division, (202) 418-0531 or Thomas.reed@fcc.gov. For information regarding the Paperwork Reduction Act (PRA) information collection requirements, contact Cathy Williams, Office of Managing Director, at 202-418-2918 or cathy.williams@fcc.gov.

SUPPLEMENTARY INFORMATION:

Correction

In the Federal Register of March 25, 2024, 89 FR 20548, WTB/OET deleted as redundant, the Norfolk, Virginia Cooperative Planning Area (Norfolk CPA) from the list of CPAs and PUA's in Table 22, and renamed the Norfolk CPA, the Newport News-Norfolk CPA/PUA. However, the amendment in instruction 2 could not be incorporated as instructed. This document corrects the instruction to amend Table 22.

List of Subjects in 47 CFR Part 2

Administrative practice and procedures, Common carriers, Communications, Communications common carriers, Communications equipment, Disaster assistance, Environmental impact statements, Imports, Radio, Reporting and recordkeeping requirements, Satellites, Telecommunications, Television, Wiretapping and electronic surveillance.

Accordingly, 47 CFR part 2 is corrected by making the following correcting amendment:

PART 2—FREQUENCY ALLOCATIONS AND RADIO TREATY MATTERS; GENERAL RULES AND REGULATIONS

1. The authority citation for part 2 continues to read as follows:

Authority: 47 U.S.C. 154, 302a, 303, and 336, unless otherwise noted.

2. In § 2.106, in paragraph (c)(431), amend table 22 by removing the entry “Norfolk * (includes Fort Story SESEF range)” and adding in its place the entry “Newport News-Norfolk * (includes Fort Story SESEF range)” to read as follows:

§ 2.106 Table of Frequency Allocations.

* * * * *

(c) * * *

(431) * * *

Table 22 to Paragraph (c)(431)—Department of Defense Cooperative Planning Areas and Periodic Use Areas
Location name | State | CPA | PUA | Latitude | Longitude | Radius (km)
* * * * * * *
Newport News-Norfolk * (includes Fort Story SESEF range) | VA | Yes | Yes | 36°58′24″ | 76°26′07″ | 93
* * * * * * *

* * * * *

Dated: March 28, 2024.
Amy Brett,
Chief of Staff, Wireless Telecommunications Bureau.

[FR Doc. 2024-07170 Filed 4-3-24; 8:45 am]

BILLING CODE 6712-01-P